DEPARTMENT OF AGRICULTURE

Agricultural Marketing Service

7 CFR Part 205

[Doc. No. AMS-NOP-15-0012; NOP-15-06]

RIN 0581-AD44

National Organic Program (NOP); Organic Livestock and Poultry Practices

AGENCY: Agricultural Marketing Service, USDA.

ACTION: Final rule; delay of effective date.

SUMMARY: Consistent with the Memorandum of January 20, 2017, from the Assistant to the President and Chief of Staff, entitled, “Regulatory Freeze Pending Review,” this action delays the effective date for 60 days for the rule, Organic Livestock and Poultry Practices. This rule, published in the Federal Register on January 19, 2017, amends the organic livestock and poultry production requirements by adding new provisions for livestock handling and transport for slaughter and avian living conditions; and expands and clarifies existing requirements covering livestock care and production practices and mammalian living conditions. The rule was originally set to take effect on March 20, 2017.

DATES: The effective date of the final rule published on January 19, 2017 (82 FR 7042) is delayed from March 20, 2017, to a new effective date of May 19, 2017.

FOR FURTHER INFORMATION CONTACT: Paul Lewis, Ph.D., Director, Standards Division. Telephone: (202) 720-3252; Fax: (202) 260-9151.

SUPPLEMENTARY INFORMATION: AMS is taking this action based on the Memorandum of January 20, 2017, from the Assistant to the President and Chief of Staff, entitled, “Regulatory Freeze Pending Review.” This memorandum directs agencies to extend the effective dates of regulations which have been published in the Federal Register, but have not taken effect. This action delays the effective date of the final rule, Organic Livestock and Poultry Practices, 82 FR 7042 (January 19, 2017), by 60 days.

To the extent that 5 U.S.C. 553(b)(A) applies to this action, it is exempt from notice and comment for good cause and the reasons cited above. AMS finds that notice and solicitation of comment regarding the brief extension of the effective date for the final regulation are impracticable, unnecessary, or contrary to the public interest pursuant to 5 U.S.C. 553(b)(B). AMS also believes that affected entities need to be informed as soon as possible of the extension and its length in order to plan and adjust their implementation process accordingly.

Dated: February 3, 2017.
Bruce Summers,
Acting Administrator, Agricultural Marketing Service.

[FR Doc. 2017-02608 Filed 2-8-17; 8:45 am]

BILLING CODE 3410-02-P